NATIONAL AERONAUTICS AND SPACE ADMINISTRATION

[Notice 13-118]

Notice of Intent To Grant Exclusive Research License

AGENCY: National Aeronautics and Space Administration.

ACTION: Notice of intent to grant exclusive research license.

SUMMARY: This notice is issued in accordance with 35 U.S.C. 209(e) and 37 CFR 404.7(a)(1)(i). NASA hereby gives notice of its intent to grant an exclusive, research only license in the United States to evaluate the invention described and claimed in U.S. Patent Application No. 61/770,194; NASA Case Nos. KSC-13702 entitled “Insulative Aerogel and Carbon Fiber Systems for Composites,” and KSC-13595 entitled “Aerogel Insulation and Composites Integrated into Unique Lay-Ups,” to AeroPlastic LP, having its principal place of business at 1325 White Drive, Titusville, FL 32780. The patent rights in these inventions have been assigned to the United States of America as represented by the Administrator of the National Aeronautics and Space Administration. The prospective exclusive, research only license will comply with the terms and conditions of 35 U.S.C. 209 and 37 CFR 404.7.

DATES: The prospective exclusive research license may be granted unless, within fifteen (15) days from the date of this published notice, NASA receives written objections including evidence and argument that establish that the grant of the license would not be consistent with the requirements of 35 U.S.C. 209 and 37 CFR 404.7. Competing applications completed and received by NASA within fifteen (15) days of the date of this published notice will also be treated as objections to the grant of the contemplated exclusive, research only license. Objections submitted in response to this notice will not be made available to the public for inspection and, to the extent permitted by law, will not be released under the Freedom of Information Act, 5 U.S.C. 552.

ADDRESSES: Objections relating to the prospective license may be submitted to Patent Counsel, Office of the Chief Counsel, Mail Code CC-A, NASA John F. Kennedy Space Center, Kennedy Space Center, FL 32899. Telephone: 321-867-2076; Facsimile: 321-867-1817.

FOR FURTHER INFORMATION CONTACT: Shelley Ford, Patent Attorney, Office of the Chief Counsel, Mail Code CC-A, NASA John F. Kennedy Space Center, Kennedy Space Center, FL 32899. Telephone: 321-867-2076; Facsimile: 321-867-1817. Information about other NASA inventions available for licensing can be found online at http://technology.nasa.gov/.

Sumara M. Thompson-King,
Deputy General Counsel.

[FR Doc. 2013-24253 Filed 10-2-13; 8:45 am]

BILLING CODE 7510-13-P